DEPARTMENT OF AGRICULTURE

Forest Service

Forestry Research Advisory Council

AGENCY: Forest Service, USDA.

ACTION: Notice of meeting.

SUMMARY: The Forestry Research Advisory Council will meet in Washington, DC, on June 6-7, 2012. The purpose of the meeting is to discuss emerging issues in forestry research.

DATES: The meeting will be held June 6-7, 2012 from 8:30 a.m. to 5:00 p.m., on both days.

ADDRESSES: The meeting will be held at Franklin Court Building, 1099 14th Street NW., Suite 5500W, Washington, DC. Individuals who wish to speak at the meeting or to propose agenda items must send their names and proposals by May 31, 2012 to Daina Apple, Designated Federal Officer, Forestry Research Advisory Council, USDA Forest Service, Research and Development, 1400 Independence Ave. SW., Washington, DC 20250-1120, or fax their names and proposed agenda items to (202) 205-1530.

FOR FURTHER INFORMATION CONTACT: Daina Apple, Forest Service, Office of the Deputy Chief for Research and Development, (202) 205-1665.

SUPPLEMENTARY INFORMATION: The meeting is open to the public. Council discussion is limited to Forest Service, National Institute of Food and Agriculture staff and Council members. However, persons who wish to bring forestry research matters to the attention of the Council may file written statements with the Council staff before or after the meeting.

Dated: April 30, 2012.
Jimmy L. Reaves,
Deputy Chief, Research and Development.

[FR Doc. 2012-10873 Filed 5-4-12; 8:45 am]

BILLING CODE 3410-11-P